DEPARTMENT OF ENERGY

Federal Energy Regulatory Commission

[Project No. 2106-059]

Pacific Gas & Electric Company; Notice of Section 10j Meeting and Providing Teleconference Information

November 9, 2010.

a. Date and Time of Meeting: Wednesday, November 17, 2010, 9 a.m.-5 p.m.

b. Place: John E. Moss Federal Building, Huntington Room, 650 Capitol Mall, Sacramento, CA 95814.

c. FERC Contact: Emily Carter, 202-502-6512 or emily.carter@ferc.gov.

d. Purpose of Meeting: Resolve the remaining section 10j issues associated with the McCloud-Pit Hydroelectric Project licensing proceeding.

e. Teleconference information: While we encourage all local, state, and federal agencies, Indian tribes, and other interested parties to participate in person, we also will have a teleconference line available. Please contact Emily Carter at (202) 502-6512 or emily.carter@ferc.gov by Friday, November 12, 2010 to RSVP and to receive specific instructions on how to participate by telephone.

Kimberly D. Bose,
Secretary.

[FR Doc. 2010-28912 Filed 11-16-10; 8:45 am]

BILLING CODE 6717-01-P